DEPARTMENT OF TRANSPORTATION

Research & Innovative Technology Administration

Agency Information Collection; Activity Under OMB Review; Passenger Origin-Destination Survey Report

AGENCY: Research & Innovative Technology Administration (RITA), Bureau of Transportation Statistics (BTS), DOT.

ACTION: Notice.

SUMMARY: In compliance with the Paperwork Reduction Act of 1995, Public Law 104-13, the Bureau of Transportation Statistics invites the general public, industry and other governmental parties to comment on the continuing need for and usefulness of BTS collecting a sample of airline passenger itineraries with the dollar value of the passenger ticket. Certificated air carriers that operated scheduled passenger service with at least one aircraft having a seating capacity of over 60 seats report these data. Comments are requested concerning whether: (a) The collection is still needed by the Department of Transportation; (b) BTS accurately estimated the reporting burden; (c) there are other ways to enhance the quality, utility and clarity of the information collected; and (d) there are ways to minimize reporting burden, including the use of automated collection techniques or other forms of information technology.

Presently, the Department has a Notice of Proposed Rulemaking (70 FR 8140, February 17, 2005) to restructure the Passenger Origin-Destination Survey Report. We are currently reviewing diverse comments on the NPRM which were due July 18, 2005 in preparation for a final rule. Until such time as we issue a final rule, the existing system for the collection of this data will remain in place to ensure compliance with statutory obligations. Therefore, we are seeking an extension of the rule in its present format. When the rulemaking becomes final the Department will seek Office of Management and Budget approval of the new reporting requirements.

DATES: Written comments should be submitted by April 4, 2006.

FOR FURTHER INFORMATION CONTACT: Bernie Stankus, Office of Airline Information, RTS-42, Room 4125, RITA, BTS, 400 Seventh Street, SW., Washington, DC 20590-0001, Telephone Number (202) 366-4387, Fax Number (202) 366-3383 or E-MAIL bernard.stankus@dot.gov.

Comments: Comments should identify the associated OMB approval #2139-0001 and Docket 23755. Persons wishing the Department to acknowledge receipt of their comments must submit with those comments a self-addressed stamped postcard on which the following statement is made: Comments on OMB #2139-0001, Docket 23755. The postcard will be date/time stamped and returned.

SUPPLEMENTARY INFORMATION: OMB Approval No.: 2139-0001.

Title: Passenger Origin-Destination Survey Report.

Form No.: None.

Type of Review: Extension of a currently approved collection.

Respondents: Large certificated air carriers.

Number of Respondents: 32.

Number of Responses: 128.

Total Annual Burden: 30,720 hours.

Needs and Uses: Survey data are used in monitoring the airline industry, negotiating international air agreements, selecting new international routes, selecting U.S. carriers to operate limited entry international routes, and modeling the spread of contagious diseases from foreign countries.

The Confidential Information Protection and Statistical Efficiency Act of 2002 (44 U.S.C. 3501 note), requires a statistical agency to clearly identify information it collects for non-statistical purposes. BTS hereby notifies the respondents and the public that BTS uses the information it collects under this OMB approval for non-statistical purposes including, but not limited to, publication of both Respondent's identity and its data, submission of the information to agencies outside BTS for review, analysis and possible use in regulatory and other administrative matters.

Issued in Washington, DC, on January 27, 2006.
Donald W. Bright,
Assistant Director, Airline Information, Bureau of Transportation Statistics.

[FR Doc. 06-1017 Filed 2-2-06; 8:45 am]

BILLING CODE 4910-FE-P